DEPARTMENT OF COMMERCE

National Telecommunications and Information Administration

Proposed Information Collection; Comment Request; Broadband Technology Opportunities Program (BTOP) Quarterly and Annual Performance Progress Reports

AGENCY: National Telecommunications and Information Administration.

ACTION: Notice.

SUMMARY: The Department of Commerce, as part of its continuing effort to reduce paperwork and respondent burden, invites the general public and other Federal agencies to take this opportunity to comment on proposed and/or continuing information collections, as required by the Paperwork Reduction Act of 1995.

DATES: Written Comments must be submitted on or before May 8, 2012.

ADDRESSES: Direct all written comments to Jennifer Jessup, Departmental Paperwork Clearance Officer, U.S. Department of Commerce, Room 6616, 14th and Constitution Avenue NW., Washington, DC 20230 (or via email to JJessup@doc.gov).

FOR FURTHER INFORMATION CONTACT: Requests for additional information or copies of the information collection instruments and instructions should be sent to Anthony G. Wilhelm, Director, BTOP, Office of Telecommunications and Information Applications, National Telecommunications and Information Administration, via email at btop@ntia.doc.gov, or by telephone at (202) 482-2048.

SUPPLEMENTARY INFORMATION:

I. Abstract

The American Recovery and Reinvestment Act of 2009 (Recovery Act) appropriated funds for BTOP, which included competitive grants to expand public computer center capacity and innovative programs to encourage sustainable adoption of broadband service. Section 6001 of the Recovery Act establishes five core purposes to be advanced by projects funded under BTOP:

(1) To provide access to broadband service to consumers residing in unserved areas of the country;

(2) To provide improved access to broadband service to underserved areas of the country;

(3) To provide broadband access, education, and support to community anchor institutions (e.g., schools, libraries, and medical facilities), or organizations and agencies serving vulnerable populations (e.g., low-income, unemployed, and aged), or job-creating strategic facilities located in State- or Federally-designated economic development areas;

(4) To improve access to, and use of, broadband service by public safety agencies; and

(5) To stimulate the demand for broadband, economic growth, and job creation.

OMB also requires agencies administering grant programs to implement post-award financial and performance reporting for those programs. Finally, the Department of Commerce's implementation of OMB's Uniform Administrative Requirements authorizes NTIA to require performance reports from BTOP grant recipients.

To date, NTIA has utilized OMB-approved Performance Progress Reports (PPRs) to capture quarterly and annual reports for each project type (Infrastructure, Public Computer Center, and Sustainable Broadband Adoption). Each PPR provides updates on fundamental project milestones and key performance indicators that allow NTIA to measure project progress and ensure proper monitoring and compliance with program rules.

After reviewing recent PPRs, NTIA identified a need to collect additional information from Infrastructure grant recipients to assess more accurately the progress of BTOP grants in relation to intended program benefits. Specifically, NTIA modified its existing annual performance report for Infrastructure awards by adding questions that require Infrastructure grantees to provide supplemental information regarding project deployment. NTIA requires this additional project implementation information to better monitor and assess the effect BTOP grant awards are having meeting program goals, including increasing broadband availability and adoption and achieving economic and social benefits in communities served by the grantees.

NTIA intends to use the information collected to: (1) Identify more accurately BTOP grant beneficiaries; (2) track better a project's progress against program-specific objectives; (3) facilitate further monitoring and oversight efforts of existing grants; and (4) ensure that grant projects will have the intended sustained impacts.

II. Method of Collection

The reports will be submitted electronically.

III. Data

OMB Control Number: 0660-0037.

Form Number(s): None.

Type of Review: Regular submission (revision of a currently approved information collection).

Affected Public: Business or other for-profit organizations; not-for-profit institutions; and State, Local, or Tribal government organizations.

Number of Respondents: 121.

Average Burden Hours per Response for the Annual Report: 3.94.

Average Burden Hours for the Additional Responses in the Annual Report: 2.0.

Estimated Total Annual Burden Hours on Respondents: 719.

IV. Request for Comments

Comments are invited on: (a) Whether the collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this proposed revision of a currently approved collection of information. They will also become a matter of public record.

Dated: March 5, 2012.
Gwellnar Banks,
Management Analyst, Office of the Chief Information Officer.

[FR Doc. 2012-5724 Filed 3-8-12; 8:45 am]

BILLING CODE 3510-06-P